GENERAL SERVICES ADMINISTRATION

Privacy Act of 1974: Republication of a System of Records Notice

AGENCY: General Services Administration.

ACTION: Notice of an updated system of records subject to the Privacy Act of 1974.

SUMMARY: The General Services Administration (GSA) is updating and republishing a notice for the system of records, Payroll Information Processing System (PIPS), GSA/PPFM-9, which is being renamed the Payroll Accounting, and Reporting (PAR) System and updated to reflect organizational and address changes and upgraded automated processes. The revisions do not require an advance public comment period since they are minor in nature and do not meet the Office of Management and Budget criteria for a revised system of records under OMB Circular A-130, Appendix 1.

EFFECTIVE DATE: The notice is effective on the date of publication.

FOR FURTHER INFORMATION CONTACT: The GSA Privacy Act Officer. Telephone: (202) 501-1452. Address: Office of the Chief People Officer (C), General Services Administration, 1800 F Street NW., Washington DC 20405.

Dated: June 28, 2004.
June V. Huber,
Director, Office of Information Management.

GSA/PPFM-9

System name:

Payroll Accounting and Reporting (PAR) System, GSA/PPFM-9.

System location:

The record system is located in the General Services Administration (GSA) Heartland Finance Center in Kansas City, Missouri; in commissions, committees, and small agencies serviced by GSA; and in administrative offices throughout GSA. Data is stored in an Oracle database (ORA2) on the HFC1 server. The operational functionality of PAR is managed and utilized by the GSA Heartland Finance Center's National Payroll Center (NPC) in Kansas City.

Persons covered by the system:

Those covered are present and former employees of GSA and of commissions, committees, and small agencies serviced by GSA; and persons in intern, youth employment, and work/study programs.

Type of record system:

PAR provides complete functionality for an employee's entire service life from initial hire through final payment and submission of retirement records to the Office of Personnel Management (OPM). The system holds payroll records, and includes information received by operating officials as well as personnel and finance officials administering their program areas, including information regarding nonsupport of dependent children. The system also contains data needed to perform detailed accounting distributions, provide for tasks such as mailing checks and bonds, and preparing and mailing tax returns and reports. The record system may contain:

a. Employee's name, Social Security Number, date of birth, sex, work schedule, and type of appointment.

b. Service computation date for assigning leave, occupational series, position, grade, step, salary, award amounts, and accounting distribution.

c. Time, attendance, and leave; Federal, State, and local tax; allotments; savings bonds; and other pay allowances and deductions.

d. Tables of data for editing, reporting, and processing personnel and pay actions, which include nature-of-action code, organization table, and salary table.

e. Information regarding court-ordered payments to support dependent children, including amounts in arrears.

Authority for maintaining the system:

5 U.S.C. part I, chapter 5, section 552a, is the basic authority. The authority for using Social Security Numbers is Executive Order 9397, 26 CFR 31.6011(b)(2), and 26 CFR 31.6109-1. Authority for maintaining data on court-ordered support of a dependent child is Executive Order 12953, dated February 27, 1995.

Purpose:

To maintain an automated information system to support the day-to-day operating needs of the payroll program. The system can provide payroll statistics for all types of Government organizations, and allows many uses for each data element entered. The system has a number of outputs:

For the payroll office, outputs include comprehensive payroll reports; accounting distribution of costs; leave data summary reports; each employee's statement of earnings, deductions, and leave every payday; State, city, and local unemployment compensation reports; Federal, State, and local tax reports; Forms W-2, Wage and Tax Statement; and reports of withholding and contributions.

For the Office of Human Resources Services, outputs include data for reports of Federal civilian employment.

The system also provides data to GSA staff and administrative offices to use for management purposes.

Routine uses of the record system, including types of users and their purposes in using the system:

a. To disclose information to a Federal, State, local, or foreign agency responsible for investigating, prosecuting, enforcing, or carrying out a statute, rule, regulation, or order, where the agency becomes aware of a violation or potential violation of civil or criminal law or regulation.

b. To disclose requested information to a court or other authorized agency regarding payment or nonpayment of court-ordered support for a dependent child.

c. To disclose information to Congressional staff in response to a request from the person who is the subject of the record.

d. To disclose information to an expert, consultant, or contractor of the agency for performing a Federal duty.

e. To disclose information to a Federal, State, or local agency maintaining civil, criminal, enforcement, or other information to obtain information needed to make a decision on hiring or retaining an employee; issuing a security clearance; letting a contract; or issuing a license, grant, or other benefit.

f. To disclose requested information to a Federal agency in connection with hiring or retaining an employee; issuing a security clearance; reporting an employee investigation; or clarifying a job.

g. To disclose information to an appeal, grievance, or formal complaints examiner; equal employment opportunity investigator; arbitrator; union official or other official engaged in investigating or settling a grievance, complaint, or appeal filed by an employee.

h. To disclose information to the Office of Management and Budget for reviewing private relief legislation at any stage of the clearance process.

i. To provide a copy of the Department of the Treasury Form W-2, Wage and Tax Statement, to the State, city, or other local jurisdiction that is authorized to tax the employee's compensation. The record is provided by a withholding agreement between the State, city, or other local jurisdiction and the Department of the Treasury under 5 U.S.C. 5516, 5517, and 5520.

j. To disclose information to the Office of Human Resources Services in reporting civilian employment.

k. To disclose information to agency administrative offices who may restructure the data for management purposes.

Policies and practices for storing, retrieving, accessing, retaining, and disposing of records in the system:

Storage:

Paper records are kept in file folders, within locked power files; microfiches in cabinets; and computer records within a computer and attached equipment. All paper records are secured with the National Payroll Center (NPC), which is a secured area at the GSA NPC in Kansas City, Missouri.

Retrieval:

Records are filed by name or Social Security Number at each location.

Safeguards:

Records are stored in locked power files, within the NPC in Kansas City, when not in use by an authorized person. Electronic records are protected by a password system. The NPC is a secured access facility.

Disposal:

The Heartland Finance Center disposes of the records by shredding or burning, as scheduled in the handbook GSA Records Maintenance and Disposition System (OAD P 1820.2).

System manager and address:

Director, National Payroll Center, General Services Administration (6BCY), 1500 East Bannister Road, Kansas City, MO 64131.

Notification procedure:

An individual inquiry should be addressed to the system manager.

Record review procedures:

An individual request should be addressed to the system manager. Furnish full name, Social Security Number, address, telephone number, approximate dates and places of employment, and nature of the request.

Procedure to contest a record:

GSA rules for contesting the content of a record and appealing an initial decision are in 41 CFR 105-64.

Record sources:

The sources are the individuals themselves, other employees, supervisors, officials of other agencies, State governments, record systems GSA/HRO-37, OPM/GOVT-1, EEOC/GOVT-1, and private firms.

[FR Doc. 04-15829 Filed 7-12-04; 8:45 am]

BILLING CODE 6820-34-P